DEPARTMENT OF TRANSPORTATION

Federal Aviation Administration

Notice of Intent To Rule on a Land Release Request for Change in Use From Aeronautical to Non-Aeronautical at Salisbury-Ocean City: Wicomico Regional Airport, Salisbury, MD

AGENCY: Federal Aviation Administration (FAA) DOT.

ACTION: Notice of request for a change in use of on-airport property.

SUMMARY: The FAA proposes to rule and invites public comment on Wicomico County's request to change 24.5 acres of federally obligated airport property at Salisbury-Ocean City: Wicomico Regional Airport, Salisbury, MD from aeronautical to non-aeronautical use. This acreage was originally purchased with federal financial assistance through the Airport Improvement Program. The proposed use of land after the sale will be compatible with the airport and will not interfere with the airport or its operation.

DATES: Comments must be received on or before September 8, 2023.

FOR FURTHER INFORMATION CONTACT: Comments on this application may be mailed or delivered to the following address: Anthony Rudy, Airport Manager, Salisbury-Ocean City: Wicomico Regional Airport, 5485 Airport Terminal Road, Unit A, Salisbury, MD 21804, (410) 548-4827, and at the FAA Washington Airports District Office: Matthew J. Thys, Manager, Washington Airports District Office, 13873 Park Center Road, Suite 490S, Herndon, VA 20171, (703) 487-3980.

SUPPLEMENTARY INFORMATION: In accordance with the Wendell H. Ford Aviation Investment and Reform Act for the 21st Century (AIR 21), Public Law 106-181 (Apr. 5, 2000; 114 Stat. 61), this notice must be published in the Federal Register 30 days before the Secretary may waive any condition imposed on a federally obligated airport by grant agreements. The following is a brief overview of the request.

Wicomico County has submitted a land release request seeking FAA approval for the change in use of approximately 24.5 acres of federally obligated airport property from aeronautical to non-aeronautical use. The property is situated within the approach to Runway 14 but outside of the runway protection zone. Due to this location, the subject area is unable to be utilized for aviation.

The 24.5 acres of land to be released consist of 12.7 acres of Parcel 24 and 11.8 acres of Parcel 63. Parcel 63 was originally purchased with federal financial assistance through the AIP program under Grant Agreement 3-24-0025-37-2007. The FAA has determined the proposed project would have no material impact on aircraft operations, at, to or from the airport; would not affect the safety of people and property on the ground adjacent to the airport as a result of aircraft operations; and would not have an adverse effect on the value of prior Federal investments to a significant extent. Subsequent to the implementation of the proposed change in use, rents received by the airport from this property is considered airport revenue, and will be used in accordance with 49 U.S.C. 47107(b) and the FAA's Policy and Procedures Concerning the Use of Airport Revenue published in the Federal Register on February 16, 1999. The proposed use of the property will not interfere with the airport or its operation.

Issued in Herndon, Virginia.
Matthew J. Thys,
Manager, Washington Airports District Office.

[FR Doc. 2023-16986 Filed 8-8-23; 8:45 am]

BILLING CODE 4910-13-P